FEDERAL COMMUNICATIONS COMMISSION

47 CFR Part 73

[MB Docket No. 07-148; FCC 08-153]

DTV Consumer Education Initiative

AGENCY: Federal Communications Commission.

ACTION: Final rule.

SUMMARY: The Commission revised the location for filing Form 388, DTV Quarterly Activity Station Report. In the DTV Consumer Education Order the Commission sought to ensure widespread consumer understanding of the benefits and mechanics of the transition by promoting a coordinated, national DTV consumer education campaign. One facet of this campaign was the establishment of a requirement that broadcasters provide on-air information to their viewers about the DTV transition, by compliance with one of three alternative sets of rules, and report those efforts to the Commission and the public.

DATES: Effective June 26, 2008.

ADDRESSES: Federal Communications Commission, 445 12th Street, SW., Washington, DC 20554.

FOR FURTHER INFORMATION CONTACT: For additional information, please contact Lyle Elder, Lyle.Elder@fcc.gov, 202-418-2120, or Eloise Gore, Eloise.Gore@fcc.gov, 202-418-7200.

SUPPLEMENTARY INFORMATION: This is a summary of the Commission's Order in MB Docket No. 07-148, FCC 08-153, adopted June 12, 2008 and released June 16, 2008. The full text of this document is available for public inspection and copying during regular business hours in the FCC Reference Center, Federal Communications Commission, 445 12th Street, SW., CY-A257, Washington, DC 20554. These documents will also be available via ECFS (http://www.fcc.gov/cgb/ecfs/). (Documents will be available electronically in ASCII, Word 97, and/or Adobe Acrobat.) The complete text may be purchased from the Commission's copy contractor, 445 12th Street, SW., Room CY-B402, Washington, DC 20554. To request this document in accessible formats (computer diskettes, large print, audio recording, and Braille), send an e-mail to fcc504@fcc.gov or call the Commission's Consumer and Governmental Affairs Bureau at (202) 418-0530 (voice), (202) 418-0432 (TTY).

Summary of the Order

I. Background

1. In this Order, we revise the location for filing Form 388, DTV Quarterly Activity Station Report. In the DTV Consumer Education Order, 73 FR 15431 (March 24, 2008), the Commission sought to ensure widespread consumer understanding of the benefits and mechanics of the transition by promoting a coordinated, national DTV consumer education campaign. One facet of this campaign was the establishment of a requirement that broadcasters provide on-air information to their viewers about the DTV transition, by compliance with one of three alternative sets of rules, and report those efforts to the Commission and the public. In particular, we required that the efforts be recorded on Form 388 and filed with the Commission via the Electronic Comment Filing System (ECFS).

II. Discussion

2. The first filing under these rules was due on April 10, 2008. Based on broadcaster and Commission experience with that filing, we find that the Consolidated DataBase System (CDBS) is a better database in which to file these forms. CDBS is more commonly used by broadcasters to file forms of this nature, and the electronic filing format simplifies both data entry by filers and review by the Commission. Therefore, in order to facilitate the reporting and review of broadcaster education efforts, this Order makes a procedural change to the consumer education rules and the instructions to Form 388. Beginning with the reports covering the second quarter of 2008, due July 10, 2008, Form 388 must be filed in CDBS, instead of ECFS. The change in the filing database creates no additional burden on broadcasters and all other requirements remain the same.

III. Procedural Matters

A. Paperwork Reduction Act Analysis

3. This Order was analyzed with respect to the Paperwork Reduction Act of 1995 (PRA) and does not contain a substantive or material modification to an information collection. Therefore, it does not require resubmission to the Office of Management and Budget. In addition, therefore, it does not contain any new or modified “information collection burden for small business concerns with fewer than 25 employees.”

B. Additional Information

4. For more information on this Report and Order, please contact Lyle Elder, Lyle.Elder@fcc.gov of the Media Bureau, Policy Division, 202-418-2120, or Eloise Gore, Eloise.Gore@fcc.gov of the Media Bureau, 202-418-7200.

IV. Ordering Clause

It is ordered that, pursuant to the authority contained in sections 1, 4, and 303 of the Communications Act of 1934, as amended, 47 U.S.C. 151, 154, and 303, this Order is adopted and the Commission's rules and Form 388 are hereby amended as set forth in Appendices A and B, respectively. The non-substantive revisions to the rules in this Order will be effective June 25, 2008.

List of Subjects in 47 CFR Part 73

Television.

Federal Communications Commission.
Marlene H. Dortch,
Secretary.

Final Rules

For the reasons discussed in the preamble, the Federal Communications Commission amends 47 CFR part 73 as follows:

PART 73—RADIO BROADCAST SERVICES

1. The authority citation for part 73 continues to read as follows:

Authority: 47 U.S.C. 154, 303, 334, 336, and 339.

2. Section 73.3526 is amended by revising paragraph (e)(ii)(iv) to read as follows:

§ 73.3526 Local public inspection file of commercial stations.

* * * * *

(e) Contents of the file.

* * * * *

(11)(iv) DTV Transition Education Reports. For full-power commercial TV broadcast stations, both analog and digital, on a quarterly basis, a completed Form 388, DTV Consumer Education Quarterly Activity Report. The Report for each quarter is to be placed in the public inspection file by the tenth day of the succeeding calendar quarter. By this date, a copy of the Report for each quarter must be filed electronically using the Commission's Consolidated DataBase System (CDBS). Stations electing to conform to the requirements of § 73.674(b) must also provide the form on the station's public Web site, if such exists. The Report shall be separated from other materials in the public inspection file. The first Report, covering the first quarter of 2008, must be filed no later than April 10, 2008. The Reports must continue to be included up to and including the quarter in which a station concludes its education campaign. These Reports shall be retained in the public inspection file for one year. Licensees and permittees shall publicize in an appropriate manner the existence and location of these Reports.

* * * * *

3. Section 73.3527 is amended by revising paragraph (e)(13) to read as follows:

§ 73.3527 Local public inspection file of noncommercial educational stations.

* * * * *

(e) Contents of the file.

* * * * *

(13) DTV Transition Education Reports. For full-power noncommercial educational TV broadcast stations, both analog and digital, on a quarterly basis, a completed Form 388, DTV Consumer Education Quarterly Activity Report. The Report for each quarter is to be placed in the public inspection file by the tenth day of the succeeding calendar quarter. By this date, a copy of the Report for each quarter must be filed electronically using the Commission's Consolidated DataBase System (CDBS). Stations electing to conform to the requirements of § 73.674(b) must also provide the form on the station's public Web site, if such exists. The Report shall be separated from other materials in the public inspection file. The first Report, covering the first quarter of 2008, must be filed no later than April 10, 2008. The Reports must continue to be included up to and including the quarter in which a station concludes its education campaign. These Reports shall be retained in the public inspection file for one year. Licensees and permittees shall publicize in an appropriate manner the existence and location of these Reports.

* * * * *

[FR Doc. E8-14538 Filed 6-25-08; 8:45 am]

BILLING CODE 6712-01-P